DEPARTMENT OF TRANSPORTATION

Federal Aviation Administration

14 CFR Part 39

[Docket No. FAA-2013-0448; Directorate Identifier 2013-CE-007-AD; Amendment 39-17542; AD 2013-16-04]

RIN 2120-AA64

Airworthiness Directives; Eclipse Aerospace, Inc. Airplanes

AGENCY: Federal Aviation Administration (FAA), DOT.

ACTION: Final rule.

SUMMARY: We are adopting a new airworthiness directive (AD) for all Eclipse Aerospace, Inc. Model EA500 airplanes equipped with Avio, Avio with ETT, or Avio NG 1.0 avionics suites. This AD was prompted by a report of potential aircraft hardware failure in the autopilot control panel and the center switch panel. This AD requires either incorporating updates to the aircraft computer system software or incorporating a temporary revision to the aircraft flight manual. We are issuing this AD to correct the unsafe condition on these products.

DATES: This AD is effective September 20, 2013.

The Director of the Federal Register approved the incorporation by reference of certain publications listed in the AD as of September 20, 2013.

ADDRESSES: For service information identified in this AD, contact Eclipse Aerospace, Inc., 26 East Palatine Road, Wheeling, Illinois 60090; telephone: (877) 373-7978; Internet: www.eclipse.aero. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Scott Fohrman, Aerospace Engineer, FAA, Chicago Aircraft Certification Office, 2300 East Devon Avenue, Room 107, Des Plaines, Illinois 60018; phone: (847) 294-7136; fax: (847) 294-7834; email: scott.fohrman@faa.gov.

SUPPLEMENTARY INFORMATION:

Discussion

We issued a notice of proposed rulemaking (NPRM) to amend 14 CFR part 39 to include an AD that would apply to the specified products. The NPRM published in the Federal Register on May 22, 2013 (78 FR 30243). The NPRM proposed to require either incorporating updates to the aircraft computer system or incorporating a temporary revision to the aircraft flight manual.

Comments

We gave the public the opportunity to participate in developing this AD. We received no comments on the NPRM (78 FR 30243, May 22, 2013) or on the determination of the cost to the public. However, we have received a revision to one of the service bulletins referenced in the NPRM. The revision does not add any additional burden to the owners/operators of the airplanes affected by the NPRM; therefore, we are including the revised service information into this AD as an additional method of compliance.

Conclusion

We reviewed the relevant data and determined that air safety and the public interest require adopting this AD as proposed except for minor editorial changes. We have determined that these minor changes:

• Are consistent with the intent that was proposed in the NPRM (78 FR 30243, May 22, 2013) for correcting the unsafe condition; and

• Do not add any additional burden upon the public than was already proposed in the NPRM (78 FR 30243, May 22, 2013).

Differences Between This AD and the Service Information

Eclipse Aerospace, Inc. Mandatory Service Bulletin Number SB 500-31-026, Rev. A, dated November 6, 2012, and SB 500-31-026, Rev. B, dated March 27, 2013, which applies only to airplanes equipped with NG 1.0 avionics suites, requires incorporating a temporary revision into the airplane flight manual (AFM) and incorporating an update to the aircraft computer system (ACS) hardware with monthly data uploads to Eclipse Aerospace, Inc. until the ACS software is updated. Specifically, the AFM revision requires an altered engine start and emergency procedures checklist.

This AD allows doing either the AFM revision or the ACS software update.

Costs of Compliance

We estimate that this AD affects 81 airplanes of U.S. registry. There are 38 of the affected airplanes equipped with Avio or Avio ETT avionics suites and 43 of the affected airplanes equipped with NG 1.0 avionics suites.

We estimate the following costs to comply with this AD. Airplanes equipped with NG 1.0 avionics suites will be allowed do either the AFM update or the ACS update:

Estimated Costs for Airplanes Equipped With Avio or Avio ETT Avionics Suites
Action | Labor cost | Parts cost | Cost per product | Cost on U.S. operators
ACS update for airplanes equipped with Avioor Avio ETT avionics suites | .5 work-hour × $85 per hour = $42.50 | $1,950 | $1,992.50 | $1,992.50 × 38 affected airplanes = $75,715.00.

Estimated Costs for Airplanes Equipped With NG 1.0 Avionics Suites
[Requires either the AFM update OR the ACS update]
Action | Labor cost | Parts cost | Cost per product | Cost on U.S. operators
AFM update for airplanes equipped with NG 1.0 avionics suites | .5 work-hour × $85 per hour = $42.50 | Not applicable | $42.50 | $42.50 × 43 affected airplanes = $1,827.50.
OR
ACS update for airplanes equipped with NG 1.0 avionics suites | .5 work-hour × $85 per hour = $42.50 | $37,000 | $37,042.50 | $37,042.50 × 43 affected airplanes = $1,592,827.50.

Incorporating the AFM update represents a terminating action for AD compliance without imposing any limitations on aircraft operations. It is the operator's choice to incorporate either the AFM update or the ACS update.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-16-04 Eclipse Aerospace, Inc.: Amendment 39-17542; Docket No. FAA-2013-0448; Directorate Identifier 2013-CE-007-AD.

(a) Effective Date

This AD is effective September 20, 2013.

(b) Affected ADs

None.

(c) Applicability

This AD applies to the following Eclipse Aerospace, Inc. Model EA500 airplanes, all serial numbers, that are certificated in any category, and are equipped with:

(1) Avio avionics suites; or

(2) Avio with ETT avionics suites; or

(3) Avio NG 1.0 avionics suites.

(d) Subject

Joint Aircraft System Component (JASC)/Air Transport Association (ATA) of America Code, Code 23: Communications.

(e) Unsafe Condition

This AD was prompted by a report of potential aircraft hardware failure in the autopilot control panel and the center switch panel. We are issuing this AD to prevent failure of the hardware/software combination within the autopilot control panel and/or center switch panel, which could result in uncommanded fire suppression system activation and simultaneous shutdown of both engines.

(f) Compliance

Unless already done, do the following actions within the compliance times specified in paragraph (g) of this AD.

(g) Update Aircraft Computer Software (ACS)

(1) For airplanes equipped with Avio or Avio with ETT avionics suites: Within 6 calendar months after September 20, 2013 (the effective date of this AD), update the ACS following paragraphs 3.A. through 3.C. of the Accomplishment Instructions in Eclipse Aerospace, Inc. Mandatory Service Bulletin Number SB 500-31-014, Rev. A, dated February 15, 2011.

(2) For airplanes equipped with NG 1.0 avionics suites: Within 6 calendar months after September 20, 2013 (the effective date of this AD), do one of the following:

(i) Insert Temporary Revision No. 016, to EA500 POH and FAA-Approved Airplane Flight Manual, Firewall Valve, 06-122204-TR016, issued November 9, 2012, into the Limitations section of the airplane flight manual following paragraph 3.B.(1)(a) of the Accomplishment Instructions in Eclipse Aerospace, Inc. Mandatory Service Bulletin Number SB 500-31-026, Rev. A, dated December 7, 2012, or Eclipse Aerospace, Inc. Mandatory Service Bulletin Number SB 500-31-026, Rev. B, dated March 27, 2013; or

(ii) Update the ACS following paragraphs 3.A. through 3.C. of the Accomplishment Instructions in Eclipse Aerospace, Inc. Mandatory Service Bulletin Number SB 500-31-019, Rev. B, dated March 13, 2013.

(h) Alternative Methods of Compliance (AMOCs)

(1) The Manager, Chicago Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(i) Related Information

For more information about this AD, contact Scott Fohrman, Aerospace Engineer, FAA, Chicago ACO, 2300 East Devon Avenue, Room 107, Des Plaines, Illinois 60018; phone: (847) 294-7136; fax: (847) 294-7834; email: scott.fohrman@faa.gov.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eclipse Aerospace, Inc. Mandatory Service Bulletin Number SB 500-31-014, Rev. A, dated February 15, 2011.

(ii) Eclipse Aerospace, Inc. Mandatory Service Bulletin Number SB 500-31-019, Rev. B, dated March 13, 2013.

(iii) Eclipse Aerospace, Inc. Mandatory Service Bulletin Number SB 500-31-026, Rev. A, dated December 7, 2012.

(iv) Eclipse Aerospace, Inc. Mandatory Service Bulletin Number SB 500-31-026, Rev. B, dated March 27, 2013.

(v) Temporary Revision No. 016, to EA500 POH and FAA-Approved Airplane Flight Manual, Firewall Valve, 06-122204-TR016, issued November 9, 2012.

(3) For Eclipse Aerospace, Inc. service information identified in this AD, contact Eclipse Aerospace, Inc. 26 East Palatine Road, Wheeling, Illinois 60090; telephone: (877) 373-7978; Internet: www.eclipse.aero.

(4) You may review copies of the referenced service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on July 31, 2013.
James E. Jackson,
Acting Manager, Small Airplane Directorate, Aircraft Certification Service.

[FR Doc. 2013-18912 Filed 8-15-13; 8:45 am]

BILLING CODE 4910-13-P